NATIONAL SCIENCE FOUNDATION

Sunshine Act Meeting

Agency Holding Meeting: National Science Foundation, National Science Board.

Date and Time: May 8, 2002: 11 a.m.-12 Noon Closed Session; May 9, 2002: 10 a.m.-10:30 a.m. Closed Session; May 9, 2002: 10:30 a.m.-12 Noon Open Session; May 9, 2002: 12:30 p.m.-3:30 p.m. Open Session.

Place: The National Science Foundation, Room 1235, 4201 Wilson Boulevard, Arlington, VA 22230, www.nsf.gov/nsb.

Status: Part of this meeting will be closed to the public. Part of this meeting will be open to the public.

Matters to be Considered: Wednesday, May 8, 2002

Closed Session (11 a.m.-12 Noon)

—Election NSB Chair, Vice Chair and two members of the Executive Committee

—Closed Session Minutes, March, 2002

—NSB Member Proposal

Thursday, May 9, 2002

Closed Session (10 a.m.-10:30 A.M.)

—Awards and Agreements

Open Session (10:30 a.m.-12:00 Noon)

—Open Session Minutes, March, 2002

—Closed Session Items for August, 2002

—Chair's Report

—Director's Report

—Annual NSB Business

—2003 Meeting Calendar

—Executive Committee Annual Report

—Committee Reports

—Other Business

Open Session (12:30 p.m.-3:30 p.m.)

—NSF Long Range Planning Environment

—S&T Policy Context: Dr. John Marburger

—NSF Planning

Marta Cehelsky,
Executive Office.

[FR Doc. 02-10814 Filed 4-26-02; 5:00 pm]

BILLING CODE 7555-01-M